OFFICE OF THE UNITED STATES TRADE REPRESENTATIVE

Generalized System of Preferences (GSP): Notice of the Results of the 2009 Annual Product Reviews

AGENCY: Office of the United States Trade Representative.

ACTION: Notice.

SUMMARY: This notice announces the results of 2009 GSP Annual Product Review with respect to: (1) Disposition of the product petitions accepted for review, including petitions to add and remove products; (2) waivers of the Competitive Need Limitations (CNL); (3) revocation of CNL waivers; and (4) de minimis waivers and redesignations. This notice also announces the continuation of the 2009 Country Practices Review.

FOR FURTHER INFORMATION CONTACT: Tameka Cooper, GSP Program, Office of the United States Trade Representative, 1724 F Street, NW., Room 601, Washington, DC 20508. The telephone number is (202) 395-6971, the fax number is (202) 395-2961, and the e-mail address is Tameka_Cooper@ustr.eop.gov.

SUPPLEMENTARY INFORMATION: The GSP program provides for the duty-free importation of designated articles when imported from beneficiary developing countries. The GSP program is authorized by Title V of the Trade Act of 1974 (19 U.S.C. 2461 et seq.), as amended, and is implemented in accordance with Executive Order 11888 of November 24, 1975, as modified by subsequent Executive Orders and Presidential Proclamations.

In the 2009 Annual Review, the Trade Policy Staff Committee reviewed a number of petitions to change product coverage of the GSP, and evaluated the 2009 value of U.S. imports of each GSP-eligible article to determine whether imports of an article from a GSP beneficiary developing country exceeded the CNLs. The results of the 2009 GSP Annual Review, comprising eight lists, are available for public viewing at http://www.regulations.gov in docket USTR-2009-0037, Supporting and Related Materials. These lists are also available at: http://www.ustr.gov/trade-topics/trade-development/preference-programs/generalized-system-preference-gsp/current-review-1.

Petitions to add certain frozen mixed beans (HTS 0710.22.40) and frozen mixtures of vegetables (HTS 0710.90.91) to the list of products eligible for duty-free treatment under GSP were granted. Petitions to add three other products were denied. Additional information about the disposition of the petitions to add products is described in List I (Decisions on Petitions to Add Products to the List of Eligible Products for the Generalized System of Preferences).

A petition to remove GSP eligibility for gold mixed link necklaces and neck chains (HTS 7113.19.25) from India was granted. These articles are no longer eligible for duty-free treatment under GSP when imported from India. Additional information about the disposition of all requests to remove products is described in List II (Decisions on Petitions to Remove Duty-Free status from a Beneficiary Developing Country for a Product on the List of Eligible Articles for the Generalized System of Preferences).

A petition to grant a waiver of the CNLs for imports of certain pneumatic radial tires (HTS 4011.10.10) from Thailand was denied, as reflected in List III (Decisions on Petitions to Grant a Waiver to the Competitive Need Limitation).

Existing CNL waivers were not revoked for miniature carnations (HTS 0603.12.30) from Columbia and certain silver jewelry articles (HTS 7113.11.50) from Thailand, and revoked for gold mixed link necklaces and neckchains (HTS 7113.19.25) from India, as reflected in List IV (Decisions on Competitive Need Limitation Waiver Revocations).

Articles that exceeded the CNLs in 2009 and that, effective July 1, 2010, are excluded from GSP eligibility when imported from a specific beneficiary country are described in List V (Products Newly Subject to Exclusion by Competitive Need Limitation), and include certain shrimp and prawn products (HTS 1605.20.05) from Thailand, certain pneumatic radial tires (HTS 4011.10.10) from Thailand, certain wood products (HTS 4409.29.05) from Brazil, and gold rope necklaces and neckchains (HTS 7113.19.21) from India.

De minimis waivers were granted to all articles that exceeded the 50-percent import-share CNL, but for which the aggregate value of all U.S. imports of that article was below the 2009 de minimis level of $19.5 million. List VI (Decisions on Products Eligible for De Minimis Waivers) provides the list of the articles and the associated countries granted de minimis waivers. The articles included on this list will continue to be eligible for duty-free treatment under GSP when imported from the associated countries.

No products were redesignated as eligible for GSP. List VII (Decisions on Products Eligible for GSP Redesignation) provides the list of the articles and the associated countries reviewed for redesignation.

The status of petitions considered in the 2009 Country Practices Review is described in List VIII. This list includes the status of petitions that had previously been accepted for review, as well petitions where the decision to accept for further review or reject was pending. The beneficiaries that will continue to be under review for GSP eligibility include: Lebanon, Russia and Uzbekistan regarding intellectual property rights, and Bangladesh, Niger, the Philippines and Uzbekistan regarding worker rights. The Trade Policy Staff Committee has determined to accept petitions to review GSP eligibility for Argentina regarding arbitral awards and Sri Lanka regarding worker rights, and has deferred a decision on a petition regarding Iraq worker rights.

The announcement of the 2010 annual review and solicitation of new petitions for consideration in that review will be announced in a later Federal Register notice.

Seth Vaughn,
Director, Generalized System of Preferences (GSP) Program; Chairman, GSP Subcommittee of the Trade Policy Staff Committee; Office of the U.S. Trade Representative.

[FR Doc. 2010-17012 Filed 7-12-10; 8:45 am]

BILLING CODE 3190-WO-P